DEPARTMENT OF AGRICULTURE

Forest Service

Forest Service Manual 2470, Silvicultural Practices

AGENCY: Forest Service, Agriculture (USDA).

ACTION: Notice of availability for public comment.

SUMMARY: The United States Department of Agriculture, Forest Service (Agency), is revising its directive related to silvicultural practices on National Forest System lands. The proposed directive updates Forest Service Manual 2470, “Silvicultural Practices.” This directive sets forth policy, responsibilities, and direction for several aspects of management and moves the agency closer to its goal of providing more current direction.

DATES: Comments must be received in writing by October 15, 2024.

ADDRESSES: Comments may be submitted electronically to https://cara.fs2c.usda.gov/Project/Details/4178. Written comments may be mailed to Stephanie Miller, Assistant Director for Future Forest, Denver Federal Center, Building 40, Lakewood, CO 80215. All timely received comments, including names and addresses, will be placed in the record and will be available for public inspection and copying. The public may inspect comments received at https://cara.fs2c.usda.gov/Project/Details/4178.

FOR FURTHER INFORMATION CONTACT: Stephanie Miller, Assistant Director for Future Forest, by phone at 720-354-6454 or by email to stephanie.miller2@usda.gov. Individuals who use telecommunications devices for the hearing impaired may call 711 to reach the Telecommunications Relay Service, 24 hours a day, every day of the year, including holidays.

SUPPLEMENTARY INFORMATION: The proposed directive reorganizes and eliminates redundant policies and procedures, deletes obsolete references, and updates agency policies and procedures. The intent of the updates is to amend the directive to reflect new authorities and more closely align with current and future forest restoration needs. An analysis of existing agency policy in Forest Service Handbooks and Manuals was conducted to identify revisions needed to support this initiative.

The Forest Service has determined that the changes to the manual formulate standards, criteria, or guidelines applicable to a Forest Service program and it is therefore publishing the proposed directive for public comment in accordance with 36 CFR part 216. The Forest Service is seeking public comment on the proposed directive, including the sufficiency of the proposed directive in meeting the stated objectives, ways to enhance the utility and clarity of information within the directive, or ways to streamline processes outlined.

Forest Service National Environmental Policy Act procedures exclude from documentation in an environmental assessment or impact statement “rules, regulations, or policies to establish servicewide administrative procedures, program processes, or instructions.” 36 CFR 220.6(d)(2). The Agency's conclusion is that the proposed directive falls within this category of actions and that no extraordinary circumstances exist as currently defined that require preparation of an environmental assessment or an environmental impact statement.

After the public comment period closes, the Forest Service will consider timely comments that are within the scope of the proposed directive in the development of the final directive. A notice of the final directive, including a response to timely comments, will be posted on the Forest Service's web page at https://www.fs.usda.gov/about-agency/regulations-policies/comment-on-directives.

Christopher French,
Deputy Chief, National Forest System.

[FR Doc. 2024-18353 Filed 8-15-24; 8:45 am]

BILLING CODE 3411-15-P